NUCLEAR REGULATORY COMMISSION

Sunshine Act Notice; Meetings

Agency Holding the Meetings: Nuclear Regulatory Commission.

Date: Weeks of July 10, 17, 24, 31, August 7, 14, 2006.

Place: Commissioners' Conference Room, 11555 Rockville Pike, Rockville, Maryland.

Status: Public and Closed.

Matters To Be Considered:

Week of July 10, 2006

Wednesday, July 12, 2006

9:45 a.m. Discussion of Management Issues (closed—ex. 2).

Week of July 17, 2006—Tentative

There are no meetings scheduled for the Week of July 17, 2006.

Week of July 24, 2006—Tentative

Wednesday, July 26, 2006

1:50 p.m. Affirmation Session (Public Meeting) (Tentative):

a. Pa'ina Hawaii, LLC, unpublished April 27, 2006 Memorandum and Order (accepting the intervenor's and NRC Staff's Joint Stipulation regarding two admitted environmental contentions) (Tentative).

b. David Geisen, LBP-06-13 (May 19, 2006) (Tentative).

c. Exelon Generation Company, LLC (Early Site Permit for Clinton ESP).

System Energy Resources, Inc. (Early Permit for Grand Gulf ESP) (Tentative).

Thursday, July 27, 2006

9:30 a.m. Briefing on Office of International Programs (OIP) Programs, Performance, and Plans (Public Meeting) (Contact: Karen Henderson, (301) 415-0202.)

This meeting will be webcast live at the Web address, http://www.nrc.gov.

1:30 p.m. Briefing on Equal Employment Opportunity (EEO) Programs. (Public Meeting) (Contact: Barbara Williams, (301) 415-7388.)

This meeting will be webcast live at the Web address, http://www.nrc.gov.

Week of July 31, 2006—Tentative

There are no meetings scheduled for the Week of July 31, 2006.

Week of August 7, 2006—Tentative

There are no meetings scheduled for the Week of August 7, 2006.

Week of August 14, 2006—Tentative

There are no meetings scheduled for the Week of August 14, 2006.

* * * * *

* The schedule for Commission meetings is subject to change on short notice. To verify the status of meetings call (recording)—(301) 415-1292. Contact person for more information: Michelle Schroll, (301) 415-1662.

* * * * *

The NRC Commission Meeting Schedule can be found on the Internet at: http://www.nrc.gov/what-we-do/policy-making/schedule.html.

* * * * *

Additional Information: By a vote of 5-0 on July 5 and 6, 2006, the Commission determined pursuant to U.S.C. 552b(e) and § 9.107(a) of the Commission's rules that “Discussion of Management Issues (closed—ex. 2)” be held July 12, 2006, and on less than one week's notice to the public. Commissioner Jaczko voted to have both open and closed sessions for this meeting.

* * * * *

The NRC provides reasonable accommodation to individuals with disabilities where appropriate. If you need a reasonable accommodation to participate in these public meetings, or need this meeting notice or the transcript of other information from the public meetings in another format (e.g. braille, large print), please notify the NRC's Disability Program Coordinator, Deborah Chan, at (301) 415-7041, TDD: (301) 415-2100, or by e-mail at DLC@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: July 6, 2006.
R. Michelle Schroll,
Office of the Secretary.

[FR Doc. 06-6151 Filed 7-7-06; 10:15 am]

BILLING CODE 7590-01-M